DEPARTMENT OF HEALTH AND HUMAN SERVICES

Renewal of Charter for the Advisory Committee on Blood Safety and Availability

AGENCY: Office of the Assistant Secretary for Health, Office of the Secretary, Department of Health and Human Services.

ACTION: Notice.

SUMMARY: As stipulated by the Federal Advisory Committee Act, as amended (5 U.S.C. App), the U.S. Department of Health and Human Services is hereby announcing renewal of the charter for the Advisory Committee on Blood Safety and Availability (ACBSA).

FOR FURTHER INFORMATION CONTACT: Jerry Holmberg, PhD; Senior Advisor for Blood Policy and Executive Secretary, Advisory Committee on Blood Safety and Availability; Department of Health and Human Services; 1101 Wootton Parkway; Tower Building, Suite 250; Rockville, MD 20852; Telephone: (240) 453-8803; Fax: (240) 453-8456; E-mail address: acbsa@hhs.gov.

SUPPLEMENTARY INFORMATION: ACBSA was established in 1996. The Committee provides advice and guidance to the Secretary, through the Assistant Secretary for Health, on a range of blood safety issues that encompass broad public health and societal implications that cannot be resolved through analysis of scientific data alone. The range of issues on which the Committee is tasked to provide advice and guidance includes, but is not limited to: (1) Definition of public health parameters around safety and availability of the blood and blood products; (2) broad public health, ethical, and legal issues related to transfusion and transplantation safety; and (3) implications for safety and availability of various economic factors affecting product cost and supply.

Since the ACBSA was established, renewal of the Committee charter has been carried out at the appropriate intervals as stipulated by FACA. The previous Committee charter was scheduled to expire on October 9, 2010. On October 8, 2010, the Secretary of Health and Human Services approved for the Committee charter to be renewed. The new charter was effected and filed with the appropriate Congressional offices and Library of Congress on October 9, 2010. Renewal of the ACBSA charter provides authorization for the Committee to operate until October 9, 2012.

A copy of the Committee charter is available on the ACBSA Web site at http://www.hhs.gov/ash/bloodsafety/. A copy of the Committee charter also can be obtained by accessing the FACA database that is maintained by the Committee Management Secretariat under the General Services Administration. The Web site address for the FACA database is http://fido.gov/facadatabase.

Dated: November 17, 2010.
Jerry A. Holmberg,
Senior Advisor for Blood Policy, Executive Secretary, Advisory Committee on Blood Safety and Availability.

[FR Doc. 2010-29518 Filed 11-22-10; 8:45 am]

BILLING CODE 4150-41-P